DEPARTMENT OF HEALTH AND HUMAN SERVICES

Centers for Medicare & Medicaid Services

[Document Identifier: CMS-10308]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: Part C and D Complaints Resolution Performance Measures: Use: Part C Sponsors provide medical coverage through at-risk arrangements with CMS. Part C Sponsors include: Local Coordinated Care Plans which include health maintenance organizations (HMOs), preferred provider organizations (PPOs), and provider sponsored organizations (PSO) plans; Private fee-for-service plans (PFFS); Special needs plans (SNPs); Medical savings account (MSAs); and Regional PPOs. Part D Sponsors provide prescription drug benefit coverage through private at-risk prescription drug plans that offer drug-only coverage Prescription Drug Plans, or through Medicare Advantage (MA) plans that offer integrated prescription drug and health care coverage (MA-PD plans).

Due to Executive Order 13410, “Promoting Quality and Efficient Health Care in Federal Government Administered or Sponsored Health Care Programs,” performance measurement ratings for Medicare Parts C & D can be found on Medicare Options Compare and the Medicare Prescription Drug Plan Finder (MPDPF), providing rating information for beneficiary use with plans being assigned a performance-based star rating. These ratings are provided to help beneficiaries make informed choices among the many plan alternatives available to them under Medicare Parts C and D.

The purpose of the project is to develop and support implementation of a performance measure for the Medicare Advantage (Part C) and Prescription Drug (Part D) programs that represents plan resolution of beneficiary complaints from the beneficiary perspective. The project includes development of methodologies for: (1) Identifying a statistically valid sample of beneficiary complaints needed to analyze the complaint's closure; (2) contacting, interviewing, and summarizing beneficiary experience; and, (3) summarizing/analyzing the resultant data to assess accuracy of the resolution of beneficiary complaints from the perspective of the beneficiaries via objective exploration of the beneficiary's complaint resolution experience. For a summary of changes, refer to the Part C and D Complaints Resolution Performance Measures Summary of Revisions document. Form Number: CMS-10308 (OMB#: 0938-New); Frequency: Yearly; Affected Public: Individuals and households; Number of Respondents: 5,300; Total Annual Responses: 5,300; Total Annual Hours: 884. (For policy questions regarding this collection contact Rachel Schreiber at 410-786-8657. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on July 6, 2010.

OMB, Office of Information and Regulatory Affairs, Attention: CMS Desk Officer, Fax Number: (202) 395-6974, E-mail: OIRA_submission@omb.eop.gov.

Dated: May 28, 2010.
Martique Jones,
Director, Regulations Development Division-B, Office of Strategic Operations and Regulatory Affairs.

[FR Doc. 2010-13302 Filed 6-3-10; 8:45 am]

BILLING CODE 4120-01-P